DEPARTMENT OF EDUCATION

Reopening; Application Deadline for Fiscal Year 2017; Small, Rural School Achievement Program

AGENCY: Office of Elementary and Secondary Education, Department of Education.

ACTION: Notice.

SUMMARY: On April 17, 2017, we published in the Federal Register (82 FR 18131) a notice of application deadline for fiscal year (FY) 2017 for the Small, Rural School Achievement (SRSA) formula grant program, Catalog of Federal Domestic Assistance (CFDA) number 84.358A. The notice of application deadline established a deadline date of June 30, 2017, for eligible local education agencies (LEAs) to submit their FY 2017 SRSA applications in the Grants.gov system. This notice reopens the application period in Grants.gov until July 28, 2017.

DATES: Deadline for Transmittal of Applications: July 28, 2017.

FOR FURTHER INFORMATION CONTACT: Mr. Eric Schulz, U.S. Department of Education, 400 Maryland Avenue SW., Room 3E-210, Washington, DC 20202. Telephone: (202) 260-7349 or by email: reap@ed.gov.

If you use a telecommunications device for the deaf (TDD) or a text telephone (TTY), call the Federal Relay Service (FRS), toll free, at 1-800-877-8339.

SUPPLEMENTARY INFORMATION: We are reopening the application deadline date for FY 2017 SRSA grant applications in order to allow eligible LEAs additional time to complete and submit their applications. All LEAs eligible to receive an SRSA award are required to submit an SRSA application in order to receive SRSA funds, regardless of whether the LEA received an award in prior years. An LEA eligible to receive FY 2017 SRSA funds that fails to submit an FY 2017 SRSA application or fails to submit an application in accordance with the application submission procedures will not receive an SRSA award this September.

Applicants that did not meet the initial June 30, 2017 deadline must submit applications by July 28, 2017 to be considered for FY 2017 funding. Applicants that already submitted timely applications that meet all of the requirements of the notice of application deadline do not have to resubmit their applications.

Applicants must submit their applications in Grants.gov by 4:30:00 p.m., Washington, DC time on July 28, 2017. Instructions on submitting an application can be found in the notice of application deadline published in the Federal Register on April 17, 2017 (82 FR 18131).

Note: All information in the notice of application deadline for FY 2017 SRSA grant applications remains the same, except for the deadline for the transmittal of applications.

Program Authority: Sections 5211-12 of the Elementary and Secondary Education Act of 1965, as amended by the Every Student Succeeds Act.

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: July 11, 2017.
Jason Botel,
Acting Assistant Secretary for Elementary and Secondary Education.

[FR Doc. 2017-14837 Filed 7-13-17; 8:45 am]

BILLING CODE 4000-01-P